JUDICIAL CONFERENCE OF THE UNITED STATES

Hearing and Meeting of the Judicial Conference Advisory Committee on Rules of Criminal Procedure

AGENCY: Judicial Conference of the United States, Advisory Committee on Rules of Criminal Procedure.

ACTION: Notice of open hearing and meeting.

SUMMARY: The hearing and meeting will be open to public observation but not participation. The hearing will be held from 8:30 a.m. to 12 noon on April 25. The meeting will be held from 1:00 p.m. on April 25 to 5:00 p.m. on April 27.

DATES: April 25-27, 2001.

TIME: 8:30 a.m. to 5 p.m.

ADDRESSES: Thurgood Marshall Federal Judiciary Building, Judicial Conference Center, One Columbus Circle NE., Washington, DC.

FOR FURTHER INFORMATION CONTACT: John K. Rabiej, Chief, Rules Committee Support Office, Administative Office of the United States Courts, Washington, DC 20544, telephone (202) 502-1820.

Dated: February 8, 2001.
John K. Rabiej,
Chief, Rules Committee Support Office.

[FR Doc. 01-3708 Filed 2-13-01; 8:45 am]

BILLING CODE 2210-55-M